DEPARTMENT OF HOMELAND SECURITY

U.S. Customs and Border Protection

New Date for the April 2015 Customs Broker License Examination

AGENCY: U.S. Customs and Border Protection, Department of Homeland Security.

ACTION: General notice.

SUMMARY: This document announces that U.S. Customs and Border Protection has changed the date on which the semi-annual written examination for an individual broker's license will be held in April 2015.

DATES: The customs broker's license examination scheduled for April 2015 will be held on Monday, April 13.

FOR FURTHER INFORMATION CONTACT: John Lugo, Broker Management Branch, Office of International Trade, (202) 863-6015.

SUPPLEMENTARY INFORMATION:

Background

Section 641 of the Tariff Act of 1930, as amended (19 U.S.C. 1641), provides that a person (an individual, corporation, association, or partnership) must hold a valid customs broker's license and permit in order to transact customs business on behalf of others, sets forth standards for the issuance of broker's licenses and permits, and provides for the taking of disciplinary action against brokers that have engaged in specified types of infractions. This section also provides that an examination may be conducted to assess an applicant's qualifications for a license.

The regulations issued under the authority of section 641 are set forth in Title 19 of the Code of Federal Regulations, part 111 (19 CFR part 111). Part 111 sets forth the regulations regarding the licensing of, and granting of permits to, persons desiring to transact customs business as customs brokers. These regulations also include the qualifications required of applicants and the procedures for applying for licenses and permits. 19 CFR 111.11 sets forth the basic requirements for a broker's license and, 19 CFR 111.11(a)(4), provides that an applicant for an individual broker's license must attain a passing grade (75 percent or higher) on a written examination.

19 CFR 111.13 sets forth the requirements and procedures for the written examination for an individual broker's license and states that written customs broker license examinations will be given on the first Monday in April and October unless the regularly scheduled examination date conflicts with a national holiday, religious observance, or other foreseeable event.

CBP recognizes that the first Monday in April 2015 coincides with the observance of the religious holiday of Passover. In consideration of this conflict, CBP has decided to change the regularly scheduled date of the examination. This document announces that CBP has scheduled the April 2015 broker license examination for Monday, April 13, 2015.

Dated: December 16, 2014.
Brenda B. Smith,
Assistant Commissioner, Office of International Trade, U.S. Customs and Border Protection.

[FR Doc. 2014-29941 Filed 12-19-14; 8:45 am]

BILLING CODE P